DEPARTMENT OF HOMELAND SECURITY

Office of the Secretary

Notice Designating Jackson State University as a DHS Center of Excellence for Natural Disasters, Coastal Infrastructure and Emergency Management as Education Lead Institution

AGENCY: Office of the Secretary, Department of Homeland Security.

ACTION: Notice.

SUMMARY: The Department of Homeland Security has designated Jackson State University as a DHS Center of Excellence for Natural Disasters, Coastal Infrastructure and Emergency Management, Education Lead Institution.

FOR FURTHER INFORMATION CONTACT: Bryan Roberts, Program Manager, University Programs, Science and Technology Directorate, Department of Homeland Security, Washington, DC 20528; telephone 202-254-5738, facsimile 202-254-6179; e-mail bryan.roberts@dhs.gov.

SUPPLEMENTARY INFORMATION:

Background

Section 308 of the Homeland Security Act of 2002, Public Law 107-296, (the “Homeland Security Act”), as amended by the Consolidated Appropriations Resolution 2003, Public Law 108-7, and as codified in Title 6 of the United States Code Chapter I Subchapter III section 188(b)(2) [6 U.S.C. 188(b)(2)], directs the Department of Homeland Security (“Department”) to sponsor extramural research, development, demonstration, testing and evaluation programs relating to homeland security. As part of this program, the Department has established a coordinated system of university-based centers for homeland security (the “Centers”).

The Centers are envisioned to be an integral component of the Department's capability to anticipate, prevent, respond to, and recover from terrorist attacks. The Centers will leverage multidisciplinary capabilities and fill gaps in current knowledge.

Title 6 U.S.C. 188(b)(2)(B) lists fourteen areas of substantive expertise that, if demonstrated, might qualify universities for designation as university-based centers. The listed areas of expertise include: (1) The training of first responders; (2) responding to incidents involving weapons of mass destruction and biological warfare; (3) emergency and diagnostic medical services; (4) chemical, biological, radiological and nuclear countermeasures or detection; (5) animal and plant health and diagnostics; (6) food safety; (7) water and wastewater operations; (8) port and waterway security; (9) multi-modal transportation; (10) information security and information engineering; (11) engineering; (12) educational outreach and technical assistance; (13) border and transportation security; and (14) the public policy implications and public dissemination of homeland security relevant research and development. However, the list is not exclusive. 6 U.S.C. 188(b)(2)(C) gives the Secretary discretion to except certain criteria specified in 6 U.S.C. 188(b)(2)(B) and consider additional criteria beyond those specified in 6 U.S.C. 188(b)(2)(B) in selecting universities for this program, as long as the Department issues a Federal Register notice explaining the criteria used for the designation.

Criteria

In response to Congressional direction contained in the Conference Report for the Fiscal Year 2007 Department of Homeland Security Appropriations Act, the DHS Under Secretary for Science and Technology developed a plan in November 2006 to establish new DHS Centers of Excellence in high priority science and technology areas which aligned to the DHS Science and Technology Directorate's research portfolios and for which DHS determined there were significant gaps in scientific understanding and technological development. These areas included: 1. Natural Disasters, Coastal Infrastructure and Emergency Management, 2. Explosives Detection, Mitigation and Response, 3. Maritime, Island and Remote Environment Security, and 4. Border Security and Immigration. Research in these areas will contribute significantly to the Department's ability to enhance homeland security and the safety of our citizens from both natural and man-made threats.

The criteria for designation for this new Center of Excellence (COE) for Natural Disasters, Coastal Infrastructure and Emergency Management is demonstrated expertise in conducting fundamental research into the issues and challenges in predicting, preparing for, preventing damages from, responding to, and recovering from natural disasters in coastal areas. The Center will develop research and education programs to improve understanding of, preparation for, and responses to natural disasters, with a particular emphasis on flooding and hurricanes. The Center will align with DHS S&T's Infrastructure and Geophysical Division and will develop approaches and train future professionals to reduce serious threats to American life and property for many years. Specifically, the Center will conduct basic and transformational research on coastal issues in the following areas: (1) Natural hazards of the coastal region (e.g., flooding from hurricanes or storm surges); (2) Innovative and comprehensive regional flood water management, including technical approaches and options to prevent damages from, mitigate, and recover from flooding incidents, and development of better understanding of land-water interactions; (3) Approaches to safeguarding public-sector coastal infrastructure and meeting other public-sector needs in crises; and (4) Coastal regional planning, governance, resilience, and unified comprehensive risk-based decision support tools, particularly for natural disasters warranting emergency measures. These tools include social, political, and economic studies on the public sector workforce and on new networks, institutions, or associations that might be devised as test beds to be effective in the coastal region, tailored to the region's socio-economic, governance, and geographic features.

Announcement of Funding Opportunities and Competition

In February 2007, the Department established a competitive process and requested white papers and proposals from universities that wished to be designated as DHS Centers of Excellence in: 1. Natural Disasters, Coastal Infrastructure and Emergency Management, 2. Explosives Detection, Mitigation and Response, 3. Maritime, Island and Remote Environment Security, or 4. Border Security and Immigration. The funding opportunity announcements for these four Centers of Excellence were published at http://www.grants.gov on February 4, 2007, as required by the Office of Management and Budget. In the area of Natural Disasters, Coastal Infrastructure and Emergency Management, DHS received 31 Natural Disasters white papers proposals and evaluated them through a peer-review panel process that included scientific expertise from the federal government, peer-institutional faculty, and the private sector. Following the white paper review, DHS received 13 full proposals by the closing date of July 30, 2007. The 13 full proposals were reviewed by subject matter experts external to DHS S&T. Eight full proposals were referred to an internal review panel of S&T subject matter experts for evaluation, who recommended site visits at four sites. Based on information collected on these site visits, DHS selected Jackson State University to be the Education Lead Institution for the Natural Disasters, Coastal Infrastructure and Emergency Management Center of Excellence, in partnership with the University of North Carolina at Chapel Hill (the Research Lead), Louisiana State University and other affiliates.

Jackson State University and its partners will conduct research and education on natural hazards—particularly flood and hurricane modeling, natural and infrastructure resilience, physical testing to extend new theoretical and modeling developments, community preparedness and regional governance and natural disaster-related education, including the development and use of capabilities at minority-serving institutions.

This team of institutions is uniquely well equipped and located to address issues of hurricane and flood prediction, preparedness, response and recovery. They will become an intrinsic part of the DHS science and technology portfolio, working closely with DHS and other federal, state and local governments to reduce potential damages from floods, hurricanes, and other natural disasters.

Jay M. Cohen,
Under Secretary for Science and Technology, Department of Homeland Security.

[FR Doc. E8-13296 Filed 6-12-08; 8:45 am]

BILLING CODE 4410-10-P